DEPARTMENT OF ENERGY

Federal Energy Regulatory Commission

[Docket Nos. RT04-2-000, ER04-116-000, ER04-157-000, EL01-39-000]

ISO New England Inc.; Bangor Hydro-Electric Company, et al.; the Consumers of New England v. New England Power Pool; Notice of Extension of Time

August 25, 2004.

On August 20, 2004, ISO New England Inc. (ISO), and the New England Transmission Owners ¹ (collectively, “New England TOs”) filed a joint motion for an extension of time to make a compliance filing relating to reversionary interests and revisions to the participants agreement ordered by the Commission in the Order conditionally approving the formation of a Regional Transmission Organization for New England, in Docket Nos. RT04-2-000, et al., 106 FERC 61,280 (2004).

¹ The New England TOs consist of the following companies: Bangor Hydro-Electric Company; Central Maine Power Company; New England Power Company; Northeast Utilities Service Company on behalf of its operating companies: The Connecticut Light and Power Company, Western Massachusetts Electric Company, Public Service Company of New Hampshire, Holyoke Power and Electric Company, and Holyoke Water Power Company; NSTAR Electric & Gas Corporation on behalf of its operating affiliates: Boston Edison Company, Commonwealth Electric Company, Canal Electric Company, and Cambridge Electric Light Company; The United Illuminating Company; and Vermont Electric Power Company, Inc.

The ISO and the New England TOs state that an extension of time is necessary to allow the parties to continue ongoing settlement discussions aimed at resolving outstanding issues in these proceedings. The motion also states that an extension of time will facilitate the implementation of an RTO for New England.

Upon consideration, notice is hereby given that the date for filing the portion of the compliance filing relating to reversionary interests and revisions to the participants agreement required by the March 24, 2004 Order is granted to and including September 13, 2004, as requested by ISO New England and New England TOs.

Magalie R. Salas,
Secretary.

[FR Doc. E4-1989 Filed 8-31-04; 8:45 am]

BILLING CODE 6717-01-P